DEPARTMENT OF AGRICULTURE

Animal and Plant Health Inspection Service

7 CFR Part 331

9 CFR Part 121

[Docket No. APHIS-2007-0033]

RIN 0579-AC53

Agricultural Bioterrorism Protection Act of 2002; Biennial Review and Republication of the Select Agent and Toxin List

Correction

In rule document E8-23887 beginning on page 61325 in the issue of Thursday, October 16, 2008, make the following correction:

On page 61329, in the first column, in the second line, “By April 14, 2008” should read “By April 14, 2009”.

[FR Doc. Z8-23887 Filed 10-24-08; 8:45 am]

BILLING CODE 1505-01-D